DEPARTMENT OF HOMELAND SECURITY

Coast Guard

33 CFR Part 165

[CGD13-04-031]

RIN 1625-AA00

Security and Safety Zone: Protection of Large Passenger Vessels, Portland, OR

AGENCY: Coast Guard, DHS.

ACTION: Final rule; notice of enforcement.

SUMMARY: The Captain of the Port Portland, OR will begin, on August 11, 2004, enforcing the Large Passenger Vessel Security and Safety Zones that were published in the Federal Register on September 12, 2003. The zones provide for the security and safety of large passenger vessels in the navigable waters of Portland, OR and adjacent waters. These security and safety zones will be enforced until further notice.

DATES: 33 CFR 165.1318 will be enforced commencing August 11, 2004.

FOR FURTHER INFORMATION CONTACT: LTjg B. Audirsch, c/o Captain of the Port Portland, OR 6767 North Basin Avenue Portland, OR 97217 at (503) 240-9301 to obtain information concerning enforcement of this rule.

SUPPLEMENTARY INFORMATION: On September 12, 2003, the Coast Guard published a final rule (68 FR 53677) establishing regulations in 33 CFR 165.1318 for the security and safety of large passenger vessels in the navigable waters of Portland, OR and adjacent waters, of Oregon and Washington. These security and safety zones provide for the regulation of vessel traffic in the vicinity of certain large passenger vessels (as defined by the final rule) and exclude persons and vessels from the immediate vicinity of these large passenger vessels. Entry into these zones is prohibited unless otherwise exempted or excluded under the final rule or unless authorized by the Captain of the Port or his designee. The Captain of the Port Portland will begin enforcing the Large Passenger Vessel Safety and Security Zones established in 33 CFR 165.1318 on August 11, 2004. The Captain of the Port may be assisted by other Federal, State, or local agencies in enforcing this security zone.

Dated: August 11, 2004.
Paul D. Jewell,
Captain, U.S. Coast Guard, Captain of the Port, Portland, OR.

[FR Doc. 04-20328 Filed 9-7-04; 8:45 am]

BILLING CODE 4910-15-P